DEPARTMENT OF THE INTERIOR

Bureau of Indian Affairs

Approved Tribal—State Class III Gaming Compact; Indian Gaming

AGENCY: Bureau of Indian Affairs, Interior.

ACTION: Notice of Approved Tribal—State Class III Gaming Compact.

SUMMARY: This notice publishes an approval of the gaming compact between the Eastern Band of Cherokee Indians and the State of North Carolina.

DATES: Effective Date: August 13, 2012.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. The Compact permits the Tribe to conduct live table gaming in a zone of geographic exclusivity that extends to all parts of North Carolina west of the Interstate Highway 26. In addition to the exclusive right to operate live table games, the Tribe is also the only entity permitted to operate slot machines, dice, or wheel games in the State.

Dated: August 3, 2012.
Michael S. Black,
Acting Assistant Secretary—Indian Affairs.

[FR Doc. 2012-19726 Filed 8-10-12; 8:45 am]

BILLING CODE 4310-4N-P